Proclamation 7363 of October 12, 2000

100th Anniversary of the U.S. Navy Submarine Force, 2000

By the President of the United States of America

A Proclamation

On October 12, 1900, the United States Navy commissioned its first submarine, the U.S.S. Holland. Few people realized that this vessel would be the first in a long line of innovative and technically sophisticated ships that would launch a new era in our national defense.

Although early-20th century submarines were small, cramped, and somewhat limited in use, a few visionary American naval leaders recognized their great potential as both offensive and defensive weapons. By the end of World War I, American submarines were patrolling our Nation's coasts and supporting Allied efforts to keep the sea lanes open along the European coast and around the British Isles. In the 1930s, thanks to the determination of submarine force leaders and notable improvements by ship designers and builders, U.S. submarines evolved into a powerful offensive force, equipped with enough fuel, food, and weapons to sustain long-range, independent, open-sea patrols.

In 1941, when Imperial Japanese forces destroyed much of the U.S. battle fleet in the surprise attack on Pearl Harbor, the U.S. Navy Submarine Force stepped into the breach and played a pivotal role in winning the war in the Pacific. With submerged attacks during daylight hours and surface attacks at night, U.S. submarines inflicted a devastating toll on the Japanese Imperial Navy and merchant marine. By war's end, our submarine force had sunk 30 percent of the enemy's naval force and 60 percent of their merchant ships. But this impressive victory came at a heavy price: the submarine force suffered the highest casualty rate of any component of the U.S. Armed Services. Of the 16,000 Americans who served in submarines during the war, more than 3,500 gave their lives.

As the Cold War dawned, the U.S. Submarine Force once again helped to turn the tide of history, this time by deterring war. In 1954, under the leadership of Admiral Hyman G. Rickover, nuclear power was introduced to the fleet on the U.S.S. Nautilus. Together with advances in hull design, silencing techniques, and sonic detection, nuclear power dramatically improved the speed, stealth, and range of U.S. submarines. By the 1960s, when ballistic missiles were successfully launched from submerged submarines, the U.S. Navy Submarine Force helped protect the Free World from Soviet aggression by conducting reconnaissance missions and by ensuring that the United States could retaliate effectively against any nuclear attack from the Soviet Union or its allies.

The end of the Cold War, however, did not bring an end to the challenges facing our submarine force, as the outbreak of regional disturbances replaced the threat of all-out nuclear conflict. Modern submarines, with their ability to remain submerged for long periods of time, excel at gathering timely and accurate information about potential trouble spots around the globe. Should the need arise, our submarine force can also exercise powerful offensive capabilities, as it did during Operation Desert Storm in Kuwait and Iraq and Operation Allied Force in Kosovo. Today's submariners continue to build on a proud tradition of service by protecting U.S. interests, defending our freedom and that of our allies, and helping to shape a more peaceful world in the 21st century.

NOW, THEREFORE, I, WILLIAM J. CLINTON, President of the United States of America, by virtue of the authority vested in me by the Constitution and laws of the United States, do hereby proclaim October 12, 2000, as the 100th Anniversary of the U.S. Navy Submarine Force. I call upon all Americans to observe this centennial celebration with appropriate programs, ceremonies, and activities in honor of those patriots, past and present, who have played a part in the rich history of the U.S. Navy Submarine Force_from ship designers and builders to logisticians and support personnel to submarine crews and their families_and in tribute to those who gave their lives for our freedom. Because of the vision, dedication, courage, and selflessness of generations of these brave Americans, the United States today has a submarine force second to none, whose unprecedented contributions to intelligence, deterrence, and offensive military capability will continue to serve as a strong pillar of our Nation's security in the years to come.

IN WITNESS WHEREOF, I have hereunto set my hand this twelfth day of October, in the year of our Lord two thousand, and of the Independence of the United States of America the two hundred and twenty-fifth.

wj

[FR Doc. 00-26771

Filed 10-16-00; 8:45 am]

Billing code 3195-01-P